DEPARTMENT OF EDUCATION

National Advisory Committee on Institutional Quality and Integrity; Notice of Members

AGENCY: National Advisory Committee on Institutional Quality and Integrity, Department of Education.

What Is the Purpose of This Notice?

The purpose of this notice is to list the members of the National Advisory Committee on Institutional Quality and Integrity (National Advisory Committee) and to give the public the opportunity to nominate candidates for the positions to be vacated by those members whose terms will expire on September 30, 2005. This notice is required under Section 114(c) of the Higher Education Act (HEA), as amended.

What Is the Role of the National Advisory Committee?

The National Advisory Committee is established under Section 114 of the HEA, as amended, and is composed of 15 members appointed by the Secretary of Education from among individuals who are representatives of, or knowledgeable concerning, education and training beyond secondary education, including representatives of all sectors and type of institutions of higher education.

The National Advisory Committee meets at least twice a year and provides recommendations to the Secretary of Education pertaining to:

• The establishment and enforcement of criteria for recognition of accrediting agencies or associations under subpart 2 of part H of Title IV, HEA.

• The recognition of specific accrediting agencies or associations.

• The preparation and publication of the list of nationally recognized accrediting agencies and associations.

As the Committee deems necessary or on request, the Committee also advises the Secretary about:

• The eligibility and certification process for institutions of higher education under Title IV, HEA.

• The development of standards and criteria for specific categories of vocational training institutions and institutions of higher education for which there are no recognized accrediting agencies, associations, or State agencies in order to establish the interim eligibility of those institutions to participate in federally funded programs.

• The relationship between (1) accreditation of institutions of higher education and the certification and eligibility of such institutions, and (2) State licensing responsibilities with respect to such institutions.

• Any other advisory functions relating to accreditation and institutional eligibility that the Secretary may prescribe.

What Are the Terms of Office for Committee Members?

The term of office of each member is 3 years, except that any member appointed to fill a vacancy occurring prior to the expiration of the term for which the member's predecessor was appointed is appointed for the remainder of the term. A member may be appointed, at the Secretary's discretion, to serve more than one term.

Who Are the Current Members of the Committee?

The current members of the National Advisory Committee are:

Members With Terms Expiring 9/30/05

• Honorable Randolph A. Beales, Former Attorney General of Virginia, and Attorney at Law, Christian & Barton, LLP, Virginia.

• Dr. Karen A. Bowyer, President, Dyersburg State Community College, Tennessee.

• Dr. Gerrit W. Gong, Assistant to the President, Brigham Young University, Utah.

• Mr. Donald R. McAdams, President, Center for Reform of School Systems, Texas.

• Dr. George A. Pruitt, President, Thomas A. Edison State College, New Jersey.

Members With Terms Expiring 9/30/06

• Mr. Ronald S. Blumenthal, Senior Vice President, Administration, Kaplan University, Iowa.

• Dr. Carol D'Amico, Chancellor, Ivy Tech State College, Central Indiana.

• Dr. Thomas E. Dillon, President, Thomas Aquinas College, California.

• Mr. David Johnson, III, Student, Brigham Young University and University of Utah.

• Dr. Ronald F. Mason, Jr., President, Jackson State University, Mississippi.

Members With Terms Expiring 9/30/07

• Dr. Robert C. Andringa, President, Council for Christian Colleges and Universities, Washington, DC.

• Dr. Lawrence W. Burt, Associate Vice President of Student Affairs and Director of Student Financial Aid, University of Texas at Austin.

• Dr. Lawrence J. DeNardis, President Emeritus, University of New Haven, Connecticut.

• Dr. Laura Palmer Noone, President, University of Phoenix, Arizona.

How Do I Nominate an Individual for Appointment as a Committee Member?

If you would like to nominate an individual for appointment to the Committee, send the following information to the Committee's Executive Director:

• A copy of the nominee's resume; and

• A cover letter that provides your reason(s) for nominating the individual and contact information for the nominee (name, title, business address, and business phone and fax numbers).

The information must be sent by June 3, 2005 to the following address: Bonnie LeBold, Executive Director, National Advisory Committee on Institutional Quality and Integrity, U.S. Department of Education, room 7007, MS 7592, 1990 K Street, NW., Washington, DC 20006.

How Can I Get Additional Information?

If you have any specific questions about the nomination process or general questions about the National Advisory Committee, please contact Ms. Bonnie LeBold, the Committee's Executive Director, telephone: (202) 219-7009, fax: (202) 219-7008, e-mail: Bonnie.LeBold@ed.gov between 9 a.m. and 5 p.m., Monday through Friday.

Authority: 20 U.S.C. 1011c.

Dated: February 22, 2005.
Sally L. Stroup,
Assistant Secretary for Postsecondary Education.

[FR Doc. 05-4213 Filed 3-3-05; 8:45 am]

BILLING CODE 4000-01-P